DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Applications may be examined between 8:30 am and 5:00 pm in Room 4211, U.S. Department of Commerce, 14th Street and Constitution Avenue, NW., Washington, DC.

Docket Number: 00-020. Applicant: University of Wisconsin—Madison, 750 University Avenue, Madison, WI 53706-1490. Instrument: Zebra Fish Tank Installation. Manufacturer: Aquarien-Bau Schwarz, Germany. Intended Use: The instrument is intended to be used to house and grow multiple generations of zebra fish which are used as a simple model to study the biology and development of vertebrate animals, including humans. These studies will include experiments to investigate the genetic basis of early embryonic development, specifically the products present in the egg which, when activated, drive the initial steps of embryogenesis. The overall objective of this research is to understand the molecular mechanisms underlying the induction of different cell fates in a developing vertebrate organism. In addition, the instruments will be used for educational purposes which involve primarily the scientific training of graduate students of the Genetics and Molecular and Cellular Biology programs. Application accepted by Commissioner of Customs: June 9, 2000.

Frank W. Creel,
Director, Statutory Import Programs Staff.

[FR Doc. 00-15966 Filed 6-22-00; 8:45 am]

BILLING CODE 3510-DS-P